DEPARTMENT OF TRANSPORTATION

Federal Aviation Administration

14 CFR Part 71

[Docket No. FAA-2024-0270; Airspace Docket No. 24-ASW-3]

RIN 2120-AA66

Amendment of Class D and Class E Airspace; Lake Charles, LA

AGENCY: Federal Aviation Administration (FAA), DOT.

ACTION: Notice of proposed rulemaking (NPRM).

SUMMARY: This action proposes to amend the Class D and Class E airspace at Lake Charles, LA. The FAA is proposing this action as the result of airspace reviews conducted as part of the decommissioning of the Beaumont very high frequency omnidirectional range (VOR) as part of the VOR Minimum Operational Network (MON) Program. This action would also update the geographic coordinates of various airports. This action will bring the airspace into compliance with FAA orders to support instrument flight rule (IFR) operations.

DATES: Comments must be received on or before April 11, 2024.

ADDRESSES: Send comments identified by FAA Docket No. FAA-2024-0270 and Airspace Docket No. 24-ASW-3 using any of the following methods:

* Federal eRulemaking Portal: Go to www.regulations.gov and follow the online instruction for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend: the Class D airspace, Class E surface airspace, and Class E airspace extending upward from 700 feet above the surface at Lake Charles Regional Airport, Lake Charles, LA; the Class D airspace and Class E airspace extending upward from 700 feet above the surface at Chennault International Airport, Lake Charles, LA; and the Class E airspace extending upward from 700 feet above the surface at Southerland Field, Sulphur, LA, (Contained within the Lake Charles, LA, airspace legal description.) to support IFR operations at these airports.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it received on or before the closing date for comments. The FAA will consider comments filed after the comment period has closed if it is possible to do so without incurring expense or dely. The FAA may change this proposal in light of the comments it receives.

Privacy: In accordance with 5 USC 553(c), DOT solicits comments from the public to better inform its rulemaking process. DOT post these comments, without edit, including any personal information the commenter provides, to www.regulations.gov as described in the system of records notice (DOT/ALL-14FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received, and any final disposition in person in the Dockets Office (see the ADDRESSES section for the address, phone number, and hours of operations). An informal docket may also be examined during normal business hours at the Federal Aviation Administration, Air Traffic Organization, Central Service Center, Operations Support Group, 10101 Hillwood Parkway, Fort Worth, TX 76177.

Incorporation by Reference

Class D and E airspace is published in paragraphs 5000, 6002, and 6005 of FAA Order JO 7400.11, Airspace Designations and Reporting Points, which is incorporated by reference in 14 CFR 71.1 on an annual basis. This document proposes to amend the current version of that order, FAA Order JO 7400.11H, dated August 11, 2023, and effective September 15, 2023. These updates would be published subsequently in the next update to FAA Order JO 7400.11. That order is publicly available as listed in the ADDRESSES section of this document.

FAA Order JO 7400.11H lists Class A, B, C, D, and E airspace areas, air traffic service routes, and reporting points.

The Proposal

The FAA is proposing an amendment to 14 CFR part 71 by:

Modifying the Class D airspace at Lake Charles Regional Airport, Lake Charles, LA, by removing the Lake Charles VORTAC and associated extension as they are no longer required; and replacing the outdated terms “Notice to Airmen” and “Airport/Facility Directory” with “Notice to Air Missions” and “Chart Supplement”;

Modifying the Class D airspace to within a 4.4-mile (decreased from a 4.5-mile) radius of Chennault International Airport, Lake Charles, LA; adding an extension within 1 mile each side of the 334° bearing from the airport extending from the 4.4-mile radius to 4.5 miles northwest of the airport; updating the header of the airspace legal description from “Lake Charles, Chennault International Airport, LA” to “Lake Charles, LA” to comply with changes to FAA Order JO 7400.2P, Procedures for Handling Airspace Matters; and removing the city associated with the airport to comply with changes to FAA Order JO 7400.2P; updating the geographic coordinates of the airport to coincide with the FAA's aeronautical database; and replacing the outdated terms “Notice to Airmen” and “Airport/Facility Directory” with “Notice to Air Missions” and “Chart Supplement”;

Modifying the Class E surface airspace at Lake Charles Regional Airport by removing the Lake Charles VORTAC and associated extension as they are no longer required; and replacing the outdated terms “Notice to Airmen” and “Airport/Facility Directory” with “Notice to Air Missions” and “Chart Supplement”;

And modifying the Class E airspace extending upward from 700 feet above the surface to within a 6.9-mile (decreased from a 7-mile) radius of Chennault International Airport; removing the extension southeast of Chennault International Airport from the airspace legal description as it is no longer required; removing the Sulphur NDB and associated extension as they are no longer required; updating the geographic coordinates of Chennault International Airport to coincide with the FAA's aeronautical database; and removing the cities associated with the airports in the airspace legal description to comply with changes to FAA Order JO 7400.2P.

This action is the result of airspace reviews conducted as part of the decommissioning of the Beaumont VOR as part of the VOR MON Program and supports instrument procedures at these airports.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 5000 Class D Airspace.

* * * * *

ASW LA D Lake Charles, LA [Amended]

Lake Charles Regional Airport, LA

(Lat 30°07′34″ N, long 93°13′24″ W)

That airspace extending upward from the surface to and including 2,500 feet MSL within a 5-mile radius of Lake Charles Regional Airport. This Class D airspace area is effective during the specific dates and times established in advance by a Notice to Air Missions. The effective dates and times will thereafter be continuously published in the Chart Supplement.

ASW LA D Lake Charles, LA [Amended]

Chennault International Airport, LA

(Lat 30°12′38″ N, long. 93°08′35″ W)

That airspace extending upward from the surface to and including 2,500 feet MSL within a 4.5-mile radius of Chennault International Airport, and within 1 mile each side of the 334° bearing from the airport extending from the 4.4-mile radius to 4.5 miles northwest of the airport, excluding that airspace within the Lake Charles Regional Airport, Lake Charles, LA, Class D airspace. This Class D airspace area is effective during the specific dates and times established in advance by a Notice to Air Missions. The effective dates and times will thereafter be continuously published in the Chart Supplement.

* * * * *

Paragraph 6002 Class E Airspace Areas Designated as Surface Areas.

* * * * *

ASW LA E2 Lake Charles, LA [Amended]

Lake Charles Regional Airport, LA

(Lat 30°07′34″ N, long 93°13′24″ W)

Within a 5-mile radius of Lake Charles Regional Airport. This Class E airspace area is effective during the specific dates and times established in advance by a Notice to Air Missions. The effective dates and times will thereafter be continuously published in the Chart Supplement.

* * * * *

Paragraph 6005 Class E Airspace Areas Extending Upward From 700 Feet or More Above the Surface of the Earth.

* * * * *

ASW LA E5 Lake Charles, LA [Amended]

Lake Charles Regional Airport, LA

(Lat 30°07′34″ N, long 93°13′24″ W)

Chennault International Airport, LA

(Lat 30°12′38″ N, long 93°08′36″ W)

Southland Field, LA

(Lat 30°07′53″ N, long 93°22′34″ W)

That airspace extending upward from 700 feet above the surface within a 7.5-mile radius of Lake Charles Regional Airport; and within a 6.9-mile radius of Chennault International Airport; and within a 6.5-mile radius of Southland Field.

* * * * *

Issued in Fort Worth, Texas, on February 21, 2024.
Martin A. Skinner,
Acting Manager, Operations Support Group, ATO Central Service Center.

[FR Doc. 2024-03832 Filed 2-23-24; 8:45 am]

BILLING CODE 4910-13-P